FEDERAL EMERGENCY MANAGEMENT AGENCY

44 CFR Part 65

[Docket No. FEMA-B-7419]

Changes in Flood Elevation Determinations

AGENCY: Federal Emergency Management Agency (FEMA).

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for each listed community.

From the date of the second publication of these changes in a newspaper of local circulation, any person has ninety (90) days in which to request through the community that the Acting Administrator, Federal Insurance and Mitigation Administration reconsider the changes. The modified elevations may be changed during the 90-day period.

ADDRESSES: The modified BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: The modified BFEs are not listed for each community in this interim rule. However, the address of the Chief Executive Officer of the community where the modified base flood elevation determinations are available for inspection is provided.

Any request for reconsideration must be based on knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR Part 10, Environmental Consideration. No environmental impact assessment has been prepared.

Regulatory Flexibility Act

The Acting Administrator, Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and Record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Dates and name of newspaper where notice was published | Chief executive officer of community | Effective date of modification | Community No.
California: San Diego | City of Oceanside (00-09-332P) | June 15, 2001, June 22, 2001, North County Times | The Honorable Terry Johnson, Mayor, City of Oceanside, 300 North Coast Highway, Oceanside, California 92054 | May 31, 2001 | 060294
California: Sonoma | City of Cloverdale (01-09-122P) | June 13, 2001, June 20, 2001, Cloverdale Reveille | The Honorable Robert Jehn, Mayor, City of Cloverdale, City Hall, P.O. Box 217, Cloverdale, California 95425-0217 | May 23, 2001 | 060376
California: Shasta | City of Redding (01-09-218P) | July 13, 2001, July 20, 2001, Redding Record Searchlight | The Honorable Dave McGeorge, Mayor, City of Redding, 777 Cypress Avenue, Redding, California 96001 | October 18, 2001 | 060360
Colorado: Douglas | Town of Parker (01-08-180P) | July 11, 2001, July 18, 2001, Douglas County News | The Honorable Gary Lasater, Mayor, Town of Parker, 20120 East Main Street, Parker, Colorado 80138 | June 22, 2001 | 080310
Colorado: Douglas | Unincorporated Areas (01-08-180P) | July 11, 2001, July 18, 2001, Douglas County News | The Honorable Melanie Worley, Chairperson, Douglas County, Board of Commissioners, 100 Third Street, Castle Rock, Colorado 80104 | June 22, 2001 | 080049
Kansas: Butler | City of Andover (00-07-552P) | July 5, 2001, July 12, 2001, Andover Journal Advocate | The Honorable Dennis L. Bush, Mayor, City of Andover, P.O. Box 295, Andover, Kansas 67002-0295 | June 19, 2001 | 200383
North Carolina: Wake | City of Raleigh (01-04-061P) | June 7, 2001, June 14, 2001, News and Observer | The Honorable Paul Coble, Mayor, City of Raleigh, City Hall, P.O. Box 590, Raleigh, North Carolina 27602 | May 30, 2001 | 370243
Nevada: Clark | City of Mesquite (01-09-170P) | May 24, 2001, May 31, 2001, Las Vegas Review-Journal | The Honorable Charles Home, Mayor, City of Mesquite, 10 East Mesquite Boulevard, Mesquite, Nevada 89027 | August 29, 2001 | 320035
Nevada: Clark | Unincorporated Areas (00-09-828P) | June 15, 2001, June 22, 2001, Las Vegas Review-Journal | The Honorable Dario Herrera, Chairman, Clark County, Board of Commissioners, 500 Grand Central Parkway, Las Vegas, Nevada 89155 | September 20, 2001 | 320003
Oklahoma: Oklahoma | City of Oklahoma City (00-06-879P) | July 6, 2001, July 13, 2001, Daily Oklahoman | The Honorable Kirk Humphreys, Mayor, City of Oklahoma City, 200 North Walker, Suite 302, Oklahoma City, Oklahoma 73102 | June 20, 2001 | 405378
Texas: Collin | City of Plano (01-06-359P) | July 13, 2001, July 20, 2001, Plano Star Courier | The Honorable Jeran Akers, Mayor, City of Plano, P.O. Box 860358, Plano, Texas 75086-0358 | June 20, 2001 | 480140
Texas: Fort Bend | City of Missouri City (00-06-727P) | April 19, 2001, April 26, 2001, Southwest Sun | The Honorable Allen Owen, Mayor, City of Missouri City, P.O. Box 666, Missouri City, Texas 77459 | March 23, 2001 | 480304
Texas: Fort Bend | Unincorporated Areas (00-06-727P) | April 19, 2001, April 26, 2001, Southwest Sun | The Honorable James Adolphus, Fort Bend County Judge, 301 Jackson Street, Suite 719, Richmond, Texas 77469 | March 23, 2001 | 480228

(Catalog of Federal Domestic Assistance No. 83.100, “Flood Insurance”)
Dated: August 21, 2001.
Robert F. Shea, Jr.,
Acting Administrator, Federal Insurance and Mitigation Administration.

[FR Doc. 01-21589 Filed 8-24-01; 8:45 am]

BILLING CODE 6718-04-P